DEPARTMENT OF ENERGY

Federal Energy Regulatory Commission

[Project No. 2541-035]

Cascade Power Company; Notice of Availability of Environmental Assessment

October 12, 2001.

In accordance with the National Environmental Policy Act of 1969 and the Federal Energy Regulatory Commission's (Commission's) regulations, the Office of Energy Projects has reviewed the application dated April 2, 2001, requesting the Commission's authorization to surrender the license for the existing Cascade Power Project, located on the Little River near the town of Brevard in Transylvania County, North Carolina, and has prepared an Environmental Assessment (EA) for the proposed and alternative actions.

Copies of the EA can be viewed at the Commission's Public Reference Room, Room 2A, 888 First Street, NE., Washington, DC 20426, or by calling (202) 208-1371. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Any comments on the EA should be filed within 30 days from the date of this notice and should be addressed to: David P. Boergers, Secretary, Federal Energy Regulatory Commission, 888 First Street, NE., Washington, DC 20426. Please affix “Cascade Power Project, No. 2541-035” to the first page of your comments. All timely filed comments will be considered in the Commission order addressing the proposed license surrender.

For further information, please contact Jim Haimes, staff environmental protection specialist, at (202) 219-2780 or at his E-mail address: james.haimes@ferc.fed.us.

David P. Boergers,
Secretary.

[FR Doc. 01-26248 Filed 10-17-01; 8:45 am]

BILLING CODE 6717-01-P